DEPARTMENT OF ENERGY

Federal Energy Regulatory Commission

Combined Notice of Filings #1

Take notice that the Commission received the following electric corporate filings:

Docket Numbers: EC16-96-000.

Applicants: Tucson Electric Power Company.

Description: Application of Tucson Electric Power Company under FPA Section 203.

Filed Date: 3/29/16.

Accession Number: 20160329-5214.

Comments Due: 5 p.m. ET 5/31/16.

Docket Numbers: EC16-97-000.

Applicants: GP Renewables & Trading, LLC.

Description: Application of GP Renewables & Trading LLC for Approval Pursuant to Section 203 of the Federal Power Act.

Filed Date: 3/30/16.

Accession Number: 20160330-5279.

Comments Due: 5 p.m. ET 4/20/16.

Take notice that the Commission received the following exempt wholesale generator filings:

Docket Numbers: EG16-77-000.

Applicants: MS Solar 3, LLC.

Description: Self-Certification of EG or FC of MS Solar 3, LLC.

Filed Date: 3/31/16.

Accession Number: 20160331-5039.

Comments Due: 5 p.m. ET 4/21/16.

Docket Numbers: EG16-78-000.

Applicants: MS Solar 2, LLC.

Description: Self-Certification of EG or FC of MS Solar 2, LLC.

Filed Date: 3/31/16.

Accession Number: 20160331-5040.

Comments Due: 5 p.m. ET 4/21/16.

Take notice that the Commission received the following electric rate filings:

Docket Numbers: ER13-1939-003.

Applicants: Southwest Power Pool, Inc.

Description: Compliance filing: Order 1000 Interregional Compliance Filing Pursuant to the February 2 Order to be effective 1/1/2015.

Filed Date: 3/3/16.

Accession Number: 20160303-5149.

Comments Due: 5 p.m. ET 4/11/16.

Docket Numbers: ER15-2265-002.

Applicants: Southwest Power Pool, Inc.

Description: Compliance filing: Compliance Filing Revising Resource Hubs to be effective 9/23/2015.

Filed Date: 3/30/16.

Accession Number: 20160330-5247.

Comments Due: 5 p.m. ET 4/20/16.

Docket Numbers: ER16-1293-000.

Applicants: White Oak Solar, LLC

Description: Baseline eTariff Filing: White Oak Solar, LLC Application for Market-Based Rates to be effective 5/29/2016.

Filed Date: 3/30/16.

Accession Number: 20160330-5248.

Comments Due: 5 p.m. ET 4/20/16.

Docket Numbers: ER16-1294-000.

Applicants: Southwest Power Pool, Inc.

Description: Notice of Termination of Settlement Agreement No. 494 of Southwest Power Pool, Inc.

Filed Date: 3/30/16.

Accession Number: 20160330-5249.

Comments Due: 5 p.m. ET 4/20/16.

Docket Numbers: ER16-1295-000.

Applicants: Deseret Generation & Transmission Co-operative, Inc.

Description: § 205(d) Rate Filing: 2016 Member Rate Schedule Tariff Filing to be effective 7/1/2016.

Filed Date: 3/31/16.

Accession Number: 20160331-5013.

Comments Due: 5 p.m. ET 4/21/16.

Docket Numbers: ER16-1296-000.

Applicants: ISO New England Inc., New England Power Pool Participants Committee.

Description: § 205(d) Rate Filing: Revisions to Forward Reserve Heat Rate Calculation to be effective 6/15/2016.

Filed Date: 3/31/16.

Accession Number: 20160331-5058.

Comments Due: 5 p.m. ET 4/21/16.

Docket Numbers: ER16-1297-000.

Applicants: Mississippi Power Company.

Description: § 205(d) Rate Filing: MRA 27 Rate Case Filing to be effective 5/1/2016.

Filed Date: 3/31/16.

Accession Number: 20160331-5096.

Comments Due: 5 p.m. ET 4/21/16.

Docket Numbers: ER16-1298-000.

Applicants: Southern California Edison Company.

Description: § 205(d) Rate Filing: DSA State of CA. Dept. of Water Resources Citrus Pump Station Project to be effective 4/15/2016.

Filed Date: 3/31/16.

Accession Number: 20160331-5108.

Comments Due: 5 p.m. ET 4/21/16.

Docket Numbers: ER16-1299-000.

Applicants: Southern California Edison Company.

Description: § 205(d) Rate Filing: GIA and Distribution Service Agmt Painted Hills Wind Developers to be effective 4/1/2016.

Filed Date: 3/31/16.

Accession Number: 20160331-5113.

Comments Due: 5 p.m. ET 4/21/16.

Docket Numbers: ER16-1300-000.

Applicants: Southern California Edison Company.

Description: § 205(d) Rate Filing: GIA and Distribution Service Agmt New-Indy Oxnard, LLC to be effective 4/1/2016.

Filed Date: 3/31/16.

Accession Number: 20160331-5122.

Comments Due: 5 p.m. ET 4/21/16.

Docket Numbers: ER16-1302-000.

Applicants: Southern California Edison Company.

Description: § 205(d) Rate Filing: SCE Amends 4 Agmts—2016 Revised Added Facilities Rate & ISO Rate to be effective 1/1/2016.

Filed Date: 3/31/16.

Accession Number: 20160331-5191.

Comments Due: 5 p.m. ET 4/21/16.

Docket Numbers: ER16-1303-000.

Applicants: Entergy Louisiana, LLC.

Description: § 205(d) Rate Filing: ELL-SRMPA 9th Extension of Interim Agreement to be effective 4/1/2016.

Filed Date: 3/31/16.

Accession Number: 20160331-5222.

Comments Due: 5 p.m. ET 4/21/16.

Docket Numbers: ER16-1304-000.

Applicants: PJM Interconnection, L.L.C.

Description: § 205(d) Rate Filing: Revisions to MISO-PJM JOA re: MISO Corporate Name Change to be effective 5/30/2016.

Filed Date: 3/31/16.

Accession Number: 20160331-5228.

Comments Due: 5 p.m. ET 4/21/16.

Docket Numbers: ER16-1305-000.

Applicants: Southwest Power Pool, Inc.

Description: § 205(d) Rate Filing: SPP-MISO JOA Revisions to Update MISO's Name and Other Clean-up Edits to be effective 5/30/2016.

Filed Date: 3/31/16.

Accession Number: 20160331-5230.

Comments Due: 5 p.m. ET 4/21/16.

Docket Numbers: ER16-1306-000.

Applicants: PacifiCorp.

Description: § 205(d) Rate Filing: PacifiCorp Energy Construction Agmt ? Pavant 2 to be effective 3/21/2016.

Filed Date: 3/31/16.

Accession Number: 20160331-5232.

Comments Due: 5 p.m. ET 4/21/16.

Docket Numbers: ER16-1307-000.

Applicants: ITC Interconnection LLC, Michigan Electric Transmission Company,, PJM Interconnection, L.L.C.

Description: § 205(d) Rate Filing: ITC & Michigan Electric submit Interconnection Agreement No. 4427 to be effective 6/1/2016.

Filed Date: 3/31/16.

Accession Number: 20160331-5234.

Comments Due: 5 p.m. ET 4/21/16.

Docket Numbers: ER16-1308-000.

Applicants: Wisconsin Public Service Corporation.

Description: § 205(d) Rate Filing: Common Facilities Agreement between WPSC and ATCLLC to be effective 5/30/2016.

Filed Date: 3/31/16.

Accession Number: 20160331-5244.

Comments Due: 5 p.m. ET 4/21/16.

Docket Numbers: ER16-1309-000.

Applicants: Midcontinent Independent System Operator, Inc.

Description: § 205(d) Rate Filing: 2016-03-31_MISO-PJM JOA Name Change Filing to be effective 5/30/2016.

Filed Date: 3/31/16.

Accession Number: 20160331-5247.

Comments Due: 5 p.m. ET 4/21/16.

Docket Numbers: ER16-1310-000.

Applicants: Wisconsin Public Service Corporation.

Description: § 205(d) Rate Filing: Project Services Agreement between WPSC and ATCLLC to be effective 5/30/2016.

Filed Date: 3/31/16.

Accession Number: 20160331-5249.

Comments Due: 5 p.m. ET 4/21/16.

Docket Numbers: ER16-1311-000.

Applicants: Midcontinent Independent System Operator, Inc.

Description: § 205(d) Rate Filing: 2016-03-31_MISO-SPP JOA Name Change Filing to be effective 5/30/2016.

Filed Date: 3/31/16.

Accession Number: 20160331-5255.

Comments Due: 5 p.m. ET 4/21/16.

Docket Numbers: ER16-1312-000.

Applicants: Southwest Power Pool, Inc.

Description: § 205(d) Rate Filing: 1771R6 NPPD NITSA NOA to be effective 3/1/2016.

Filed Date: 3/31/16.

Accession Number: 20160331-5260.

Comments Due: 5 p.m. ET 4/21/16.

Docket Numbers: ER16-1313-000.

Applicants: Midcontinent Independent System Operator, Inc.

Description: § 205(d) Rate Filing: 2016-03-31_Attachment GG Cross-Reference Revisions to be effective 4/1/2016.

Filed Date: 3/31/16.

Accession Number: 20160331-5266.

Comments Due: 5 p.m. ET 4/21/16.

Docket Numbers: ER16-1314-000.

Applicants: Southwest Power Pool, Inc.

Description: § 205(d) Rate Filing: 2198R20 Kansas Power Pool NITSA NOA to be effective 3/1/2016.

Filed Date: 3/31/16.

Accession Number: 20160331-5270.

Comments Due: 5 p.m. ET 4/21/16.

Docket Numbers: ER16-1315-000.

Applicants: American Electric Power Service Corporation, ITC Interconnection LLC, PJM Interconnection, L.L.C.

Description: § 205(d) Rate Filing: AEP submits Original Interconnection Agreement No. 4426 with ITCI to be effective 6/1/2016.

Filed Date: 3/31/16.

Accession Number: 20160331-5353.

Comments Due: 5 p.m. ET 4/21/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 31, 2016.
Nathaniel J. Davis, Sr.,
Deputy Secretary.

[FR Doc. 2016-07857 Filed 4-5-16; 8:45 am]

BILLING CODE 6717-01-P